DEPARTMENT OF HOMELAND SECURITY

Coast Guard

33 CFR Part 100

[Docket Number USCG-2015-0100]

RIN 1625-AA08

Special Local Regulations, Recurring Marine Events in Captain of the Port Long Island Sound Zone

AGENCY: Coast Guard, DHS.

ACTION: Final rule.

SUMMARY: The Coast Guard is adding, deleting, and modifying special local regulations for annual marine events in the Sector Long Island Sound Captain of the Port (COTP) Zone. When enforced, these regulated areas would restrict vessels from portions of water areas during certain annually recurring events. The special local regulations are intended to expedite public notification and ensure the protection of the maritime public and event participants from the hazards associated with certain maritime events.

DATES: This rule is effective June 20, 2016.

ADDRESSES: To view documents mentioned in this preamble as being available in the docket, go to http://www.regulations.gov, type USCG-2015-0100 in the “SEARCH” box and click “SEARCH.” Click on Open Docket Folder on the line associated with this rule.

FOR FURTHER INFORMATION CONTACT: If you have questions on this rule, call or email Chief Petty Officer Ian M. Fallon, U.S. Coast Guard Waterways Management Division Sector Long Island Sound; telephone (203) 468-4565, or email Ian.M.Fallon@uscg.mil.

SUPPLEMENTARY INFORMATION:

I. Table of Abbreviations

CFR Code of Federal Regulations

DHS Department of Homeland Security

NPRM Notice of proposed rulemaking

Pub. L. Public Law

§ Section

U.S.C. United States Code

II. Background Information and Regulatory History

On June 23, 2015, the Coast Guard published an NPRM titled “Special Local Regulations, Recurring Marine Events in Captain of the Port Long Island Sound Zone” (80 FR 35892). There we stated why we issued the NPRM, and invited comments on our proposed regulatory action related to making changes to 33 CFR 100.100 “Special Local Regulations; Regatta and Boat Races in the Coast Guard Sector Long Island Sound Captain of the Port Zone.” During the comment period that ended July 23, 2015, we received no comments.

III. Legal Authority and Need for Rule

The Coast Guard is issuing this rule under authority in 33 U.S.C. 1233. This regulation carries out two related actions: (1) Establishing necessary special local regulations; and (2) updating and reorganizing existing regulations for ease of use and reduction of administrative overhead.

IV. Discussion of Comments, Changes, and the Rule

The Coast Guard is to amend 33 CFR 100.100 “Special Local Regulations; Regattas and Boat Races in the Coast Guard Sector Long Island Sound Captain of the Port Zone” by establishing sixteen permanent marine events regulated areas, removing five previously regulated areas, and modifying three marine event special local regulations. This rulemaking limits the unnecessary burden of establishing temporary rules for events that occur on an annual basis.

(1) Establishing New Marine Event Regulated Areas

This rule establishes sixteen permanent marine event special local regulations under 33 CFR 100.100. These events include fireworks displays, swimming events, and regattas that take place throughout the Long Island Sound COTP Zone. Event locations and details are listed below in the text of the regulation. Because large numbers of spectator vessels are expected to congregate around the location of these events, these regulated areas are needed to protect both spectators and participants from the safety hazards associated with marine events, including large numbers of swimmers, hard to see and unstable small boats, unexpected pyrotechnics detonation, and burning debris. This rule permanently establishes regulated areas that restrict vessel movement around the location of each marine event to reduce the associated hazards.

During the enforcement period of the regulated areas, persons and vessels would be prohibited from entering, transiting through, remaining, anchoring, or mooring within the regulated area unless specifically authorized by the COTP or the designated representative. Persons and vessels would be able to request authorization to enter, transit through, remain, anchor, or moor within the regulated areas by contacting the COTP Sector Long Island Sound, or designated representative, by telephone at (203) 468-4401 or via VHF radio on channel 16. If authorization to enter, transit through, remain, anchor, or moor within any of the regulated areas is granted, all persons and vessels receiving authorization would be required to comply with the instructions of the COTP or designated representative.

The Coast Guard COTP Sector Long Island Sound or designated representative will enforce the regulated areas. These designated representatives are comprised of commissioned, warrant, and petty officers of the Coast Guard. The Coast Guard may be assisted by other federal, state and local agencies in the enforcement of these regulated areas.

Certain special local regulations are listed without known dates or times. Coast Guard Sector Long Island Sound will cause notice of the enforcement of these regulated areas to be made by all appropriate means to affect the widest publicity among the effected segments of the public, including publication in the Federal Register as a Notice of Enforcement, Local Notice to Mariners, and Broadcast Notice to Mariners.

(2) Remove Old Special Local Regulations That Are no Longer Needed

This rule removes five special local regulations from the TABLE to § 100.100: (1) 1.3 Head of the Connecticut Regatta, Connecticut River, CT as the event has not been held since 2012 and the sponsoring organization, the City of Middletown, has confirmed that they do not intend to hold the event again in the foreseeable future; (2) 1.4 Riverfront Regatta, Hartford, CT as the event's details have significantly changed and is no longer the same event; (3) 1.5 Patchogue Grand Prix, Patchogue, NY as the event has not been held since 2010 and the sponsoring organization, Offshore Powerboat Association, has confirmed that they do not intend to hold the event again in the foreseeable future; (4) 1.6 Riverfront U.S. Title series Powerboat Race, Hartford, CT as the event has not been held since 2011 and the sponsoring organization, Riverfront Recaptured, has confirmed that they do not intend to hold the event again in the foreseeable future; and (5) 1.8 Kayak for a Cause Regatta as the event has not been held since 2012 and the sponsoring organization, Kayak for a Cause, has disbanded.

(3) Modify and Update Existing Regulated Areas.

This rule amends the following special local regulations from the TABLE to § 100.100: (1) 1.1 Harvard-Yale Regatta, Thames River, New London, CT will be moved to 5.1 on the Table to § 100.100; (2) 1.2 Great Connecticut River Raft Race, Middletown will be moved to 7.1 on the Table to § 100.100 and the name changed to Connecticut River Raft Race, Middletown, CT; and (3) 1.7 Hartford Dragon Boat Regatta will be moved to 8.1 on the Table to § 100.100 and the name changed to the Riverfront Dragon Boat and Asian Festival.

V. Regulatory Analyses

We developed this rule after considering numerous statutes and executive orders Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action,” under Executive Order 12866. Accordingly, it has not been reviewed by the Office of Management and Budget.

The Coast Guard determined that this rulemaking is not a significant regulatory action for the following reasons: The regulated areas are of limited duration and vessels may transit the navigable waterways outside of the regulated areas; and persons or vessels requiring entry into the regulated areas may be authorized to do so by the COTP Sector Long Island Sound or designated representative. Moreover, the Coast Guard will issue Broadcast Notice to Mariners via VHF-FM marine channel 16 about the zone and the rule allows vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit these regulated areas may be small entities, for the reasons stated in section V.A above, this rule will not have a significant economic impact on any vessel owner or operator. Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves the establishing sixteen permanent marine events regulated areas, removing five previously regulated areas, and modifying three marine event special local regulations. It is categorically excluded from further review under paragraph 34(h) of Figure 2-1 of the Commandant Instruction. A preliminary environmental analysis checklist supporting this determination and a Categorical Exclusion Determination are available in the docket where indicated under ADDRESSES. We seek any comments or information that may lead to the discovery of a significant environmental impact from this rule.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 100

Marine safety, Navigation (water), Reporting and recording requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. In § 100.100, revise the “Table to § 100.100” to read as follows:

§ 100.100 Special Local Regulations; Regattas and Boat Races in the Coast Guard Sector Long Island Sound Captain of the Port Zone.

* * * * *

Table to § 100.100
5 | May
5.1 Harvard-Yale Regatta, Thames River, New London, CT | • Date: A single day between the last Saturday in May through second Saturday of June.
| • Rain Date: A single day between the last Saturday in May through second Saturday of June.
| • Time: 8 a.m. until 5 p.m.
| • Location: All waters of the Thames River at New London, Connecticut, between the Penn Central Draw Bridge at position 41°21′46.94″ N. 072°05′14.46″ W. to Bartlett Cove at position 41°25′35.9″ N. 072°05′42.89″ W. (NAD 83). All positions are approximate.
5.2 Jones Beach Air Show | • Date: The Thursday through Sunday before Memorial Day each May.
| • Time:
| (1) The “No Entry Area” will be enforced each day from the start of the air show until 30 minutes after it concludes. Exact time will be determined annually.
| (2) The “Slow/No Wake Area” and the “No Southbound Traffic Area” will be enforced each day for six hours after the air show concludes. Exact time will be determined annually.
| • Location:
| (1) “No Entry Area”: Waters of the Atlantic Ocean off Jones Beach State Park, Wantagh, NY contained within the following described area; beginning at a point on land at position 40°34′54″ N., 073°33′21″ W.; then east along the shoreline of Jones Beach State Park to a point on land at position 40°35′53″ N., 073°28′48″ W.; then south to a point in the Atlantic Ocean off of Jones Beach at position 40°35′05″ N., 073°28′34″ W.; then west to position 40°33′15″ N., 073°33′09″ W.; then north to the point of origin (NAD 83). All positions are approximate.
| (2) “Slow/No Wake Area”: All navigable waters between Meadowbrook State Parkway and Wantagh State Parkway and contained within the following area. Beginning in position 40°35′49.01″ N., 73°32′33.63″ W.; then north along the Meadowbrook State Parkway to its intersection with Merrick Road in position 40°39′14″ N., 73°34′0.76″ W.; then east along Merrick Road to its intersection with Wantagh State Parkway in position 40°39′51.32″ N., 73°30′43.36″ W.; then south along the Wantagh State Parkway to its intersection with Ocean Parkway in position 40°35′47.30″ N., 073°30′29.17″ W.; then west along Ocean Parkway to its intersection with Meadowbrook State Parkway at the point of origin (NAD 83). All positions are approximate.
| (3) “No Southbound Traffic Area”: All navigable waters of Zach's Bay south of the line connecting a point near the western entrance to Zach's Bay at position 40°36′29.20″ N., 073°29′22.88″ W. and a point near the eastern entrance of Zach's Bay at position 40°36′16.53″ N., 073°28′57.26″ W. (NAD 83). All positions are approximate.
6 | June
6.1 Swim Across America Greenwich | • Date: A single day during June.
| • Time: 5:30 a.m. until noon.
| • Location: All navigable waters of Stamford Harbor within an area starting at a point in position 41°01′32.03″ N., 073°33′8.93″ W., then southeast to a point in position 41°01′15.01″ N., 073°32′55.58″ W.; then southwest to a point in position 41°0′49.25″ N., 073°33′20.36″ W.; then northwest to a point in position 41°0′58″ N., 073°33′27″ W.; then northeast to a point in position 41°1′15.8″ N., 073°33′9.85″ W., then heading north and ending at point of origin (NAD 83). All positions are approximate.
7 | July
7.1 Connecticut River Raft Race, Middletown, CT | • Date: A single day between the last Saturday in July through first Saturday of August.
| • Time: 10 a.m. until 2 p.m.
| • Location: All waters of the Connecticut River near Middletown, CT between Gildersleeve Island (Marker no. 99) at position 41°36′02.13″ N., 072°37′22.71″ W.; and Portland Riverside Marina (Marker no. 88) at position 41°33′38.3″ N., 072°37′36.53″ W. (NAD 83). All positions are approximate.
| • Additional Stipulations: Spectators or other vessels shall not anchor, block, loiter, or impede the transit of event participants or official patrol vessels in the regulated areas unless authorized by COTP or designated representative.
7.2 Dolan Family Fourth Fireworks | • Date: July 4.
| • Rain date: July 5.
| • Time: To be determined annually.
| • Locations:
| (1) “No Entry Area”: All waters of Oyster Bay Harbor in Long Island Sound off Oyster Bay, NY within a 1000 foot radius of the launch platform in approximate position 40°53′42.50″ N., 073°30′04.30″ W. (NAD 83).
| (2) “Slow/No Wake Area”: All waters of Oyster Bay Harbor in Long Island Sound off Oyster Bay, NY contained within the following area; beginning at a point on land in position at 40°53′12.43″ N., 073°31′13.05″ W. near Moses Point; then east across Oyster Bay Harbor to a point on land in position at 40°53′15.12″ N., 073°30′38.45″ W.; then north along the shoreline to a point on land in position at 40°53′34.43″ N., 073°30′33.42″ W. near Cove Point; then east along the shoreline to a point on land in position at 40°53′41.67″ N., 073°29′40.74″ W. near Cooper Bluff; then south along the shoreline to a point on land in position 40°53′05.09″ N., 073°29′23.32″ W. near Eel Creek; then east across Cold Spring Harbor to a point on land in position 40°53′06.69″ N., 073°28′19.9″ W.; then north along the shoreline to a point on land in position 40°55′24.09″ N., 073°29′49.09″ W. near Whitewood Point; then west across Oyster Bay to a point on land in position 40°55′5.29″ N., 073°31′19.47″ W. near Rocky Point; then south along the shoreline to a point on land in position 40°54′04.11″ N., 073°30′29.18″ W. near Plum Point; then northwest along the shoreline to a point on land in position 40°54′09.06″ N., 073°30′45.71″ W.; then southwest along the shoreline to a point on land in position 40°54′03.2″ N., 073°31′01.29″ W.; and then south along the shoreline back to point of origin (NAD 83). All positions are approximate.
7.3 Clam Shell Foundation Fireworks | • Date: A single day during July.
| • Time: To be determined annually.
| • Locations:
| (1) “No Entry Area”: All waters of Three Mile Harbor, East Hampton, NY within a 1000 foot radius of the launch platform in approximate position 41°01′15.49″ N., 072°11′27.5″ W. (NAD 83).
| (2) “Northbound Traffic Only Area”: All waters of Three Mile Harbor, East Hampton, NY contained within the following area; beginning at a point in position at 41°02′5.05″ N., 072°11′19.52″ W.; then southeast to a point on land in position at 41°02′2.67″ N., 072°11′17.97″ W.; then south along shoreline to a point on land in position at 41°01′35.26″ N., 072°11′9.56″ W.; then southeast across channel to a point on land in position at 41°01′30.28″ N., 072°10″52.77″ W.; then north along the shoreline to a point on land in position at 41°01′41.35″ N., 072° 10′52.57″ W.; then north across channel to a point on land in position at 41°01′44.41″ N., 072° 10′52.23″ W. near the southern end of Sedge Island; then north along shoreline of Sedge Island to a point on land in position at 41°01′56.3″ N., 072°10′59.37″ W., near the northern end of Sedge Island; then northwest across the channel to a point on land in position 41°01′56.76″ N., 072°11′0.66″ W.; then northwest along shoreline to a point on land in position 41°01′41.35″ N., 072°10′52.57″ W.; then northwest to position at 41°02′5.92″ N., 072°11′16.73″ W.; and then southwest to point of origin (NAD 83). All positions are approximate.
7.4 Jones Beach State Park Fireworks | • Date: July 4.
| • Rain date: July 5.
| • Time: 8:30 p.m. to 10:30 p.m.
| • Locations:
| (1) “No Entry Area”: All waters off of Jones Beach State Park, Wantagh, NY within a 1000 foot radius of the launch platform in approximate position 40°34′ 56.68″ N., 073°30′31.19″ W. (NAD 83).
| (2) “Slow/No Wake Area”: All navigable waters between Meadowbrook State Parkway and Wantagh State Parkway and contained within the following area. Beginning in position at 40°35′49.01″ N., 073°32′33.63″ W.; then north along the Meadowbrook State Parkway to its intersection with Merrick Road in position at 40°39′14″ N., 073°34′0.76″ W.; then east along Merrick Road to its intersection with Wantagh State Parkway in position at 40°39′51.32″ N., 073°30′43.36″ W.; then south along the Wantagh State Parkway to its intersection with Ocean Parkway in position at 40°35′47.30″ N., 073°30′29.17″ W.; then west along Ocean Parkway to its intersection with Meadowbrook State Parkway at the point of origin (NAD 83). All positions are approximate.
| (3) “No Southbound Traffic Area”: All navigable waters of Zach's Bay south of the line connecting a point near the western entrance to Zach's Bay in position at 40°36′29.20″ N., 073°29′22.88″ W. and a point near the eastern entrance of Zach's Bay in position at 40°36′16.53″ N., 073°28′57.26″ W. (NAD 83). All positions are approximate.
7.5 Maggie Fischer Memorial Great South Bay Cross Bay Swim | • Date: A single day during July.
| • Time: To be determined annually.
| • Location: Waters of the Great South Bay, NY within 100 yards of the race course. Starting Point at the Fire Island Lighthouse Dock in position at 40°38′01″ N., 073°13′07″ W.; then north-by-northwest to a point in position at 40°38′52″ N., 073°13′09″ W.; then north-by-northwest to a point in position at 40°39′40″ N., 073°13′30″ W.; then north-by-northwest to a point in position at 40°40′30″ N., 073°14′00″ W.; and then north-by-northwest, finishing at Gilbert Park, Brightwaters, NY at position 40°42′25″ N., 073°14′52″ W. (NAD 83). All positions are approximate.
7.6 Aquapalooza, Zach's Bay | • Date: A single day during July.
| • Time: 11:30 a.m. to 8 p.m.
| • Location: All navigable waters of Zach's Bay, Wantagh, NY south of the line connecting a point near the western entrance to Zach's Bay in approximate position 40°36′29.20″ N., 073°29′22.88″ W. and a point near the eastern entrance of Zach's Bay in approximate position 40°36′16.53″ N., 073°28′57.26″ W.
| • Additional stipulations: During the enforcement period vessel speed in the regulated area is restricted to no wake speed or 6 knots, whichever is slower. On the day of the event from 3 p.m. to 5:30 p.m. vessels may only transit the regulated area in the northbound direction or outbound direction.
7.7 Fran Schnarr Open Water Championship Swim | • Date: A single day during July.
| • Time: To be determined annually.
| • Location: Waters of Huntington Bay, NY within 100 yards of the race course. Starting in position at 40°54′25.3″ N., 073°24′27.9″ W.; then northeast to a position at 40°54′32″ N., 73°23′57.7″ W.; then northwest to a position at 40°54′37.9″ N., 073°23′57.2″ W.; then southwest to a position at 40°54′33.2″ N., 073°25′28.1″ W.; then southeast to a position at 40°54′25.5″ N., 073°25′25.7″ W.; and then southeast to point of origin (NAD 83). All positions are approximate.
8 | August
8.1 Riverfront Dragon Boat and Asian Festival | • Dates: Saturday and Sunday during the third weekend of August.
| • Time: 8 a.m. until 4:30 p.m. each day.
| • Regulated area: All waters of the Connecticut River in Hartford, CT between the Bulkeley Bridge at 41°46′10.10″ N., 072°39′56.13″ W. and the Wilbur Cross Bridge at 41°45′11.67″ N., 072°39′13.64″ W. (NAD 83). All positions are approximate.
8.2 Swim Across the Sound | • Date: A single day during August.
| • Time: To be determined annually.
| • Location: Waters of Long Island Sound from Port Jefferson, NY in approximate position 40°58′11.71″ N., 073°05′51.12″ W.; then northwest to Captain's Cove Seaport, Bridgeport, CT in approximate position 41°09′25.07″ N., 073°12′47.82″ W. (NAD 83).
8.3 Stonewall Swim | • Date: A day during a weekend in August.
| • Time: 8:30 a.m. until 12:30 p.m.
| • Location: All navigable waters of the Great South Bay within a three miles long and half mile wide box connecting Snedecor Avenue in Bayport, NY to Porgie Walk in Fire Island, NY. Formed by connecting the following points. Beginning at 40°43′40.24″ N., 073°03′41.50″ W.; then to 40°43′40.00″ N., 073°03′13.40″ W.; then to 40°40′04.13″ N., 073°03′43.81″ W.; then to 40°40′08.30″ N., 073°03′17.70″ W.; and then back to point of origin (NAD 83).
8.4 Island Beach Two Mile Swim | • Date: A single day during August.
| • Time: To be determined annually.
| • Location: All waters of Captain Harbor between Little Captain's Island and Bower's Island that are located within the box formed by connecting four points in the following positions. Beginning at 40°59′23.35″ N. 073°36′42.05″ W.; then northwest to 40°59′51.04″ N. 073°37′57.32″ W.; then southwest to 40°59′45.17″ N. 073°38′01.18″ W.; then southeast to 40°59′17.38″ N. 073°36′45.9″ W.; then northeast to the point of origin (NAD 83). All positions are approximate.
8.5 Waves of Hope Swim | • Date: A single day during August.
| • Time: To be determined annually.
| • Location: All waters of the Great South Bay off Amityville, NY shoreward of a line created by connecting the following points. Beginning at a point at 40°39′22.38″ N., 073°25′31.63″ W; then south to a point at 40°39′2.18″ N., 073°25′31.63″ W.; then east to a point at 40°39′2.18″ N., 073°24′3.81″ W.; then north to a point at 40°39′18.27″ N., 073°24′3.81″ W.; and then west back to point of origin (NAD 83). All positions are approximate.
8.6 Smith Point Triathlon | • Date: A day during a weekend in August.
| • Time: To be determined annually.
| • Location: All waters of Narrow Bay near Smith Point Park in Mastic Beach, NY within the area bounded by land along its southern edge and points in position at 40°44′14.28″ N., 072°51′40.68″ W.; then north to a point at position 40°44′20.83″ N., 072°51′40.68″ W.; then east to a point at position 40°44′20.83″ N., 072°51′19.73″ W.; then south to a point at position 40°44′14.85″ N., 072°51′19.73″ W.; and then southwest along the shoreline back to the point of origin (NAD 83). All positions are approximate.
9 | September
9.1 Head of the Tomahawk | • Date: A single day during September.
| • Time: To be determined annually.
| • Location: All navigable waters of the Connecticut River off South Glastonbury, CT. Beginning at position 41°41′18.88″ N.; 072°37′16.26″ W.; then downriver along the west bank to a point at position 41°38′49.12″ N., 072°37′32.73″ W.; then across the Connecticut River to a point at position 41°38′49.5″ N., 072°37′19.55″ W.; then upriver along the east bank to a point at position 41°41′25.82″ N., 072°37′9.08″ W.; then across the Connecticut River to the point of origin (NAD 83).
| • Additional Stipulations: Non-event vessels transiting through the area during the enforcement period are to travel at no wake speeds or 6 knots, whichever is slower and that non-event vessels shall not block or impede the transit of event participants, event safety vessels or official patrol vessels in the regulated area unless authorized by COTP or designated representatives.
10 | October
10.1 Head of the Riverfront Rowing Regatta, Hartford, CT | • Date: The first Sunday of October.
| • Time: 5:30 a.m. until 5:30 p.m.
| • Location: All water of the Connecticut River, Hartford, CT, between at point North of Wethersfield Cove at 41°43′52.17″ N., 072°38′40.38″ W. and the Riverside Boat House 41°46′30.98″ N., 072° 39′54.35″ W. (NAD 83).

Dated: April 19, 2016.
E.J. Cubanski, III,
Captain, U.S. Coast Guard, Captain of the Port Sector Long Island Sound.

[FR Doc. 2016-11824 Filed 5-19-16; 8:45 am]

BILLING CODE 9110-04-P